ENVIRONMENTAL PROTECTION AGENCY

40 CFR Part 721

[EPA-HQ-OPPT-2009-0686; FRL-8828-3]

RIN 2070-AB27

Proposed Significant New Use Rule for Multi-walled Carbon Nanotubes; Reopening of Comment Period

AGENCY: Environmental Protection Agency (EPA).

ACTION: Proposed rule; reopening of comment period.

SUMMARY: EPA issued a proposed rule in the Federal Register of February 3, 2010, concerning a proposed significant new use rule (SNUR) for the chemical substance identified generically as multi-walled carbon nanotubes (P-08-199). In order to address public comments, EPA is adding information to the docket and reopening the comment period. This document reopens the comment period for 30 days.

DATES: Comments, identified by docket identification (ID) number EPA-HQ-OPPT-2009-0686, must be received on or before August 27, 2010.

ADDRESSES: Follow the detailed instructions as provided under ADDRESSES in the Federal Register document of February 3, 2010.

FOR FURTHER INFORMATION CONTACT: For technical information contact: Jim Alwood, Chemical Control Division (7405M), Office of Pollution Prevention and Toxics, Environmental Protection Agency, 1200 Pennsylvania Ave., NW., Washington, DC 20460-0001; telephone number: (202) 564-8974; e-mail address: alwood.jim@epa.gov.

For general information contact: The TSCA-Hotline, ABVI-Goodwill, 422 South Clinton Ave., Rochester, NY 14620; telephone number: (202) 554-1404; e-mail address: TSCA-Hotline@epa.gov.

SUPPLEMENTARY INFORMATION: This document reopens the public comment period established in the Federal Register of February 3, 2010 (75 FR 5546) (FRL-8796-7). In that document, EPA proposed a SNUR for the chemical substance identified generically as multi-walled carbon nanotubes as identified in Premanufacture Notice (PMN) P-08-199. EPA received several comments in response to the proposed SNUR. EPA will address those comments when it issues the final SNUR. One commenter noted that neither the proposed rule nor the docket contained specific carbon nanotube data or data supporting the nature of the dermal concern for carbon nanotubes. That commenter stated it was not possible to assess the Agency's evaluation and determination under § 721.170(b)(3)(ii) based on the current record. Another commenter noted that EPA's subsequent reviews and concerns for carbon nanotubes have expanded and that the proposed SNUR should reflect those updated data. EPA has added additional explanation and references of its health and environmental concerns for carbon nanotubes to the public docket for consideration. EPA is hereby reopening the comment period for 30 days to allow for any public comments in response to this additional data.

To submit comments, or access the docket, please follow the detailed instructions as provided under ADDRESSES in the February 3, 2010 Federal Register document. If you have questions, consult the technical person listed under FOR FURTHER INFORMATION CONTACT.

List of Subjects in 40 CFR Part 721

Environmental protection, Chemicals, Hazardous substances, Reporting, and recordkeeping requirements.

Dated: July 15, 2010.
Wendy C. Hamnett,
Director, Office of Pollution Prevention and Toxics.

[FR Doc. 2010-18543; Filed 7-27-10; 8:45 am]

BILLING CODE 6560-50-S